DEPARTMENT OF ENERGY

Federal Energy Regulatory Commission

Combined Notice of Filings #1

Take notice that the Commission received the following electric corporate filings:

Docket Numbers: EC16-178-000.

Applicants: Wisconsin River Power Company, Wisconsin Public Service Corporation, Wisconsin Power and Light Company.

Description: Supplement to September 9, 2016 Application of Wisconsin River Power Company, et al. for Approval of Transaction Under Section 203(a)(1) of the Federal Power Act.

Filed Date: 10/11/16.

Accession Number: 20161011-5348.

Comments Due: 5 p.m. ET 1/10/17.

Take notice that the Commission received the following electric rate filings:

Docket Numbers: ER10-2265-012; ER10-1580-016; ER10-1581-018; ER10-2383-008; ER10-2384-008; ER10-2888-021; ER11-2062-021; ER11-2107-012; ER11-2108-012; ER11-2508-020; ER11-2805-020; ER11-4307-021; ER11-4308-021; ER12-261-020; ER14-1818-012; ER14-2820-008; ER14-2821-008.

Applicants: NRG Power Marketing LLC, Boston Energy Trading and Marketing LLC, Energy Plus Holdings LLC, GenOn Energy Management, LLC, Green Mountain Energy Company, Independence Energy Group LLC, Long Beach Peakers LLC, Mountain Wind Power, LLC, Mountain Wind Power II, LLC, North Community Turbines LLC, North Wind Turbines LLC, Norwalk Power LLC, Reliant Energy Northeast LLC, RRI Energy Services, LLC, Saguaro Power Company, a Limited Partnership, Spring Canyon Energy II LLC, Spring Canyon Energy III LLC.

Description: Updated Market Power Analysis for the Northwest Region of NRG MBR Sellers.

Filed Date: 12/30/16.

Accession Number: 20161230-5232.

Comments Due: 5 p.m. ET 2/28/17.

Docket Numbers: ER10-2822-010; ER10-1291-021; ER10-1725-004; ER10-2285-006; ER10-2301-004; ER10-2306-004; ER10-2404-008; ER10-2423-008; ER10-2812-014; ER10-2828-004; ER10-2843-013; ER10-3001-005; ER10-3002-004; ER10-3004-005; ER10-3010-004; ER10-3031-004; ER10-3160-003; ER11-2112-008; ER12-2649-004; ER12-422-006; ER12-96-006; ER16-1250-002; ER16-1637-002; ER16-2285-002.

Applicants: Atlantic Renewable Projects II LLC, Blue Creek Wind Farm LLC, Casselman Windpower LLC, Central Maine Power Company, Desert Wind Farm LLC, Flat Rock Windpower LLC, Flat Rock Windpower II LLC, GenConn Devon LLC, GenConn Energy LLC, GenConn Middletown LLC, Groton Wind, LLC, Hardscrabble Wind Power LLC, Lempster Wind, LLC, Locust Ridge Wind Farm, LLC, Locust Ridge II, LLC, New England Wind, LLC, New York State Electric & Gas Corporation, Rochester Gas and Electric Corporation, South Chestnut LLC, Streator-Cayuga Ridge Wind Power LLC, The United Illuminating Company, UIL Distributed Resources, LLC, Providence Heights Wind, LLC, Avangrid Renewables, LLC.

Description: Updated Market Power Analysis for the Northeast Region of AVANGRID Northeast MBR Sellers.

Filed Date: 12/30/16.

Accession Number: 20161230-5228.

Comments Due: 5 p.m. ET 2/28/17.

Docket Numbers: ER17-608-001.

Applicants: NorthWestern Corporation.

Description: Tariff Amendment: Amendment to SA 760 2nd Rev—NITSA with Beartooth Electric Cooperative to be effective 3/1/2017.

Filed Date: 12/30/16.

Accession Number: 20161230-5167.

Comments Due: 5 p.m. ET 1/23/17.

Docket Numbers: ER17-728-000.

Applicants: Approved Energy II LLC.

Description: Baseline eTariff Filing: Approved Energy II LLC Market Based Rate Application to be effective 12/30/2016.

Filed Date: 12/30/16.

Accession Number: 20161230-5179.

Comments Due: 5 p.m. ET 1/23/17.

Docket Numbers: ER17-729-000.

Applicants: PJM Interconnection, L.L.C.

Description: § 205(d) Rate Filing: PJM TOs submit revisions to MISO-PJM JOA section 9.4 re TMEP Cost Allocations to be effective 12/31/9998.

Filed Date: 12/30/16.

Accession Number: 20161230-5190.

Comments Due: 5 p.m. ET 1/23/17.

Docket Numbers: ER17-730-000.

Applicants: NorthWestern Corporation.

Description: Tariff Cancellation: Notice of Cancellation: SA 781, Agreement with Montana DOT (Whitehall—South) to be effective 1/3/2017.

Filed Date: 12/30/16.

Accession Number: 20161230-5191.

Comments Due: 5 p.m. ET 1/23/17.

Docket Numbers: ER17-731-000.

Applicants: Green Mountain Power Corporation.

Description: Market-Based Triennial Review Filing: GMP Triennial for the Northeast Region to be effective 12/31/2016.

Filed Date: 12/30/16.

Accession Number: 20161230-5196.

Comments Due: 5 p.m. ET 2/28/17.

Docket Numbers: ER17-732-000.

Applicants: GridLiance West Transco LLC.

Description: Initial rate filing: GWT VEA NPC Third Amended and Restated Interconnection Agreement to be effective 3/1/2017.

Filed Date: 12/30/16.

Accession Number: 20161230-5198.

Comments Due: 5 p.m. ET 1/23/17.

Docket Numbers: ER17-733-000.

Applicants: PacifiCorp.

Description: Tariff Cancellation: Termination of Exelon Generation NITSA Rev 1 to be effective 12/31/2016.

Filed Date: 12/30/16.

Accession Number: 20161230-5199.

Comments Due: 5 p.m. ET 1/23/17.

Docket Numbers: ER17-734-000.

Applicants: Entergy Louisiana Power, LLC.

Description: Tariff Cancellation: Cancellation of CID to be effective 12/31/9998.

Filed Date: 12/30/16.

Accession Number: 20161230-5204.

Comments Due: 5 p.m. ET 1/23/17.

Docket Numbers: ER17-735-000.

Applicants: NEP Energy Services, Ltd.

Description: Baseline eTariff Filing: Baseline new to be effective 3/1/2017.

Filed Date: 12/30/16.

Accession Number: 20161230-5205.

Comments Due: 5 p.m. ET 1/23/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 3, 2017.
Nathaniel J. Davis, Sr.,
Deputy Secretary.

[FR Doc. 2017-00118 Filed 1-6-17; 8:45 am]

BILLING CODE 6717-01-P